DEPARTMENT OF THE INTERIOR

Bureau of Indian Affairs

Amendments to Notice of Intent To Prepare an Environmental Impact Statement for the Proposed Desert Rock Energy Project, San Juan County, NM

AGENCY: Bureau of Indian Affairs, Interior.

ACTION: Notice.

SUMMARY: This notice advises the public that the Bureau of Indian Affairs is amending its Notice of Intent to Prepare an Environmental Impact Statement (EIS) for the proposed Desert Rock Energy Project, San Juan County, New Mexico, published in the Federal Register on November 10, 2004 (69 FR 65215), which described the proposed action. The amendments: (1) Add the Office of Surface Mining Reclamation and Enforcement, the Bureau of Land Management and the U.S. Environmental Protection Agency (EPA) as cooperating agencies; (2) include the mining of up to six million more tons of coal per year from the BHP Navajo Coal Company lease area and delivery of that coal to the proposed power plant, plus the issuance of permits required under the Clean Water Act by the Army Corps of Engineers and/or the EPA, for analysis in the EIS; (3) announce five more public scoping meetings to identify potential issues and alternatives for inclusion in the EIS; and (4) extend the period for public comment on scoping for the EIS.

DATES: Written comments addressing issues or alternatives to be considered in the EIS or other information bearing on the EIS must arrive by April 11, 2005. The additional public scoping meetings will be held March 28, 29 (2 meetings), 30, and 31, 2005.

ADDRESSES: You may mail or hand carry written comments to Eloise Chicharello, Director, Navajo Regional Office, Bureau of Indian Affairs, PO Box 1060, Gallup, New Mexico 87305.

The addresses and times for the public scoping meetings are:

1. March 28, 2005—Cortez Middle School Cafeteria, 450 West 2nd Street, Cortez, Colorado, 4 p.m. to 8 p.m.

2. March 29, 2005—Sanostee Chapter House, Highway 491, Navajo Nation, 10 a.m. to 2 p.m.,and Burnham Chapter House, Navajo Nation, 4 p.m. to 8 p.m.

3. March 30, 2005—Auxiliary Gymnasium, Shiprock High School, Highway 64 West, Shiprock, New Mexico, 4 p.m. to 8 p.m.

4. March 31, 2005—Indian Pueblo Cultural Center, Silver & Turquoise Room, 2401 12 Street NW, Albuquerque, New Mexico, 4 p.m. to 8 p.m.

An EPA representative will be present at the Albuquerque public meeting.

FOR FURTHER INFORMATION CONTACT: Loretta A.W. Tsosie, (505) 863-8296, or Richard Knox, (602) 861-7428.

SUPPLEMENTARY INFORMATION: Sithe Global Power, LLC, a privately held, independent power company, and Diné Power Authority, an enterprise of the Navajo Nation established by the Navajo Nation Council to promote the development of energy resources, have entered into a joint agreement to develop a coal-fired electric power-generating plant on a 600-acre site approximately 30 miles southwest of Farmington, New Mexico. Coal to support the long-term production of electricity may be mined from the adjacent BHP Navajo Coal Company lease area, hence the Office of Surface Mining Reclamation and Enforcement would approve any necessary permits for the existing lessee to mine additional areas of the coal lease and construct a coal-handling facility for delivery of coal to the proposed electric power-generating plant.

Resources and issues so far identified for analysis in the EIS include air, geology, soils, water, vegetation, wildlife, special status species, land use, access, visual resources, noise, social and economic conditions, environmental justice, hazardous materials, and cultural and paleontological resources. Analyses will address requirements of the Clean Water Act, Clean Air Act, Endangered Species Act, National Historic Preservation Act, Resource Conservation and Recovery Act, Comprehensive Environmental Response Compensation and Liability Act, Surface Mining Control and Reclamation Act, and others, as needed. Alternatives to be analyzed include, at a minimum, the proposed action and no action. The range of issues and alternatives to be addressed may be expanded based on comments received during the scoping process.

Public Comment Availability

Comments, including names and addresses of respondents, will be available for public review at the mailing address shown in the ADDRESSES section, during regular business hours, 8 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Authority

This notice is published in accordance with section 1503.1 of the Council on Environmental Quality Regulations (40 CFR Parts 1500 through 1508) implementing the procedural requirements of the National Environmental Policy Act of 1969, as amended (42 U.S.C. 4321 et seq.), and the Department of the Interior Manual (516 DM 1-6), and is in the exercise of authority delegated to the Principal Deputy Assistant Secretary—Indian Affairs by 209 DM 8.

Dated: February 23, 2005.
Michael D. Olsen,
Acting Principal Deputy Assistant Secretary—Indian Affairs.

[FR Doc. 05-4688 Filed 3-9-05; 8:45 am]

BILLING CODE 4310-W7-P